DEPARTMENT OF ENERGY

Federal Energy Regulatory Commission

[Docket No. RP99-190-003]

National Fuel Gas Distribution Corporation; Notice of Compliance Filing

June 12, 2001.

Take notice that on May 2, 2001, National Fuel Gas Distribution Corporation (National Fuel Distribution) filed its final report in compliance with the Commission's order dated March 30, 2000, in Docket No. RP99-190-001. The filing reports that National Fuel Distribution will be able to operate without a waiver of the shipper must have title policy following November 1, 2000 for parts of its upstream capacity and following April 1, 2001 for all of its upstream capacity.

Any person desiring to protest said filing should file a protests with the Federal Energy Regulatory Commission, 888 First Street, NE., Washington, DC 20426, in accordance with Section 385.211 of the Commission's Rules and Regulations. All such protests must be filed on or before June 19, 2001. Protests will be considered by the Commission in determining the appropriate action to be taken, but will not serve to make protestants parties to the proceedings. Copies of this filing are on file with the Commission and are available for public inspection for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-15226 Filed 6-15-01; 8:45 am]

BILLING CODE 6717-01-M